Title 3—

The President

Proclamation 8376 of May 8, 2009

Mother's Day, 2009

By the President of the United States of America

A Proclamation

The time-honored tradition of recognizing mothers grew out of the imagination of a few bold women. Julia Ward Howe, composer of The Battle Hymn of the Republic, urged mothers to advocate for peace through a day dedicated to them. After her own mother passed away, Anna Jarvis sought to recognize the great influence mothers have on society. These efforts led to the recognition of mothers through a Congressional Resolution and President Woodrow Wilson's proclamation of the first Mother's Day in 1914. Today, we proudly carry forward this tradition in honor of mothers, the special women whose love and lessons profoundly impact our lives.

Mothers are the bedrock of the American family—vital to their children's growth and happiness and to the success of our country. Children's lives are shaped by their mothers, whose care provides the foundation for their development. Mothers instill the values and confidence that help define their children's character and self-esteem, and offer a guiding clarity of spirit. Mothers are role models, teachers, and sources of unconditional support. There is no substitute for the bond of love between mother and child, and nothing is more worthy of reverence.

Across America, mothers raise children under an array of circumstances. They may care for a child with the help of a spouse, family members, and friends, or they may do this job alone as a single parent. They may be biological mothers, adoptive mothers, or foster mothers, but all open their hearts to their children and nurture them through their life journey. Caring for children also means putting food on the table, ensuring their needs are met, and staying involved in their daily lives. Women often work long hours at demanding jobs and then return home to a household with myriad demands. Balancing work and family is no easy task, but mothers across our Nation meet this challenge each day, often without recognition for their hard work and dedication. The strength and conviction of all mothers——including those who work inside and outside the home——are inspiring. They deserve our deepest respect, admiration, and appreciation.

A mother's love is a cherished blessing, for it is selfless, unconditional, and true. This Mother's Day, let us honor our mothers who continue to inspire us, and remember those whose loving spirits sustain us still.

The Congress, by a joint resolution approved May 8, 1914 (38 Stat. 770), has designated the second Sunday in May each year as “Mother's Day” and requested the President to call for its appropriate observance.

NOW, THEREFORE, I, BARACK OBAMA, President of the United States of America, do hereby proclaim May 10, 2009, as Mother's Day. I urge all Americans to express their love, respect, and gratitude to mothers everywhere, and I call upon all citizens to observe this day with appropriate programs, ceremonies, and activities.

IN WITNESS WHEREOF, I have hereunto set my hand this eighth day of May, in the year of our Lord two thousand nine, and of the Independence of the United States of America the two hundred and thirty-third.

[FR Doc. E9-11314

Filed 5-12-09; 8:45 am]

Billing code 3195-W9-P